DEPARTMENT OF COMMERCE

International Trade Administration

Fermi Research Alliance, et al.; Notice of Decision on Application for Duty-Free Entry of Scientific Instruments

This is a decision pursuant to Section 6(c) of the Educational, Scientific, and Cultural Materials Importation Act of 1966 (Pub. L. 89-651, as amended by Pub. L. 106-36; 80 Stat. 897; 15 CFR part 301). Related records can be viewed between 8:30 a.m. and 5:00 p.m. in Room 3720, U.S. Department of Commerce, 14th and Constitution Ave, NW, Washington, DC.

Docket Number: 17-014. Applicant: Fermi Research Alliance, Batavia, IL 60510. Instrument: ICARUS T600 Detector. Manufacturer: The European Organization for Nuclear Research, Switzerland. Intended Use: See notice at 82 FR 57212, December 4, 2017. Comments: None received. Decision: Approved. We know of no instruments of equivalent scientific value to the foreign instruments described below, for such purposes as this is intended to be used, that was being manufactured in the United States at the time of order. Reasons: The instrument will be used to study the rate at which muon neutrinos, a type of elementary particle, change flavor to electron neutrinos as they travel the distance between three LArTPC detectors. This is the only instrument that meets the requirements for position and time resolution of particle trajectories.

Docket Number: 17-015. Applicant: New Mexico Institute of Mining and Technology, Socorro, NM 87801. Instrument: Unit Telescope Enclosure #1 (UTE1). Manufacturer: European Industrial Engineering (EIE) Group, Italy. Intended Use: See notice at 82 FR 57212, December 4, 2017. Comments: None received. Decision: Approved. We know of no instruments of equivalent scientific value to the foreign instruments described below, for such purposes as this is intended to be used, that was being manufactured in the United States at the time of order. Reasons: The instrument will be used to study star and planet formation, active galactic nuclei and stellar accretion and mass loss. Unique features of the instrument include access to all astronomical objects above 30 degrees in elevation, with an inner axis rotation angle between +40 degrees and −50 degrees, as well as thermal stability and protection from shock load and vibration.

Docket Number: 17-016. Applicant: Yale University, New Haven, CT 06520. Instrument: Mosquito crystal robot. Manufacturer: TTP Labtech, United Kingdom. Intended Use: See notice at 82 FR 57212-13, December 4, 2017. Comments: None received. Decision: Approved. We know of no instruments of equivalent scientific value to the foreign instruments described below, for such purposes as this is intended to be used, that was being manufactured in the United States at the time of order. Reasons: The instrument will be used to obtain crystals of the biological macromolecule with and without its binding partner(s). Unique features of the instrument include disposable tips, which are essential to avoid cross contamination.

Docket Number: 17-018. Applicant: Brookhaven National Laboratory, Upton, NY 11973. Instrument: Solid State Klystron Modulator. Manufacturer: Scandinova Systems AB, Sweden. Intended Use: See notice at 82 FR 57213, December 4, 2017. Comments: None received. Decision: Approved. We know of no instruments of equivalent scientific value to the foreign instruments described below, for such purposes as this is intended to be used, that was being manufactured in the United States at the time of order. Reasons: The instrument will be used to study the magnetization, structure and conductivity of various organic and inorganic specimens such as proteins, ferrite, and superconducting materials. This is the only instrument with specific electrical socket to connect to the klystron, a solenoid magnet with magnetic field contours specific to the Model E37302A.

Dated: February 9, 2018.
Gregory W. Campbell,
Director, Subsidies Enforcement, Enforcement and Compliance.

[FR Doc. 2018-03260 Filed 2-15-18; 8:45 am]

BILLING CODE 3510-DS-P